DEPARTMENT OF HEALTH AND HUMAN SERVICES

Indian Health Service

Request for Public Comment: 60-Day Proposed Information Collection: Indian Health Service Customer Satisfaction Survey

AGENCY: Indian Health Service, HHS.

ACTION: Notice.

SUMMARY: In compliance with Section 3506(c)(2)(A) of the Paperwork Reduction Act of 1995 which requires 60-day advance opportunity for public comment on proposed information collection projects, the Indian Health Service (IHS) is publishing for comment a summary of a proposed information collection to be submitted to the Office of Management and Budget (OMB) for review.

Proposed Collection: Title: 0917-NEW, “Indian Health Service Customer Satisfaction Survey.” Type of Information Collection Request: Three-year approval of this new information collection, 0917-NEW, “Indian Health Service Customer Satisfaction Survey.” Form(s): Tribal Homeowner Survey, Tribal Partner Survey, Annual Operator Operation and Maintenance (O&M) Survey, and Post Construction O&M Survey. Need and Use of Information Collection: The IHS goal is to raise the health status of the American Indian and Alaska Native people to the highest possible level by providing comprehensive health care and preventive health services. To support the IHS mission, the Sanitation Facilities Construction Program (SFCP) provides technical and financial assistance to American Indian Tribes and Alaska Native villages for cooperative development and continued operation of safe water, wastewater, and solid waste systems and related support facilities.

The IHS of Environmental Health and Engineering (OEHE), SFCP “Customer Satisfaction Surveys,” will provide the information needed to complete these goals. With the information collected from Tribal homeowners, Tribal leaders, and Tribal operation and maintenance operators, the Sanitation facilities programs will make improvements that will result in improved quality of services.

Voluntary customer satisfaction surveys will be conducted through phone calls, mail, and the Internet. The information gathered will be used by agency management and staff to identify strengths and weaknesses in current service provision, to plan and redirect resources, to make improvements that are practical and feasible, and to provide vital feedback to partner agencies, Tribal leaders, system operators, health boards, and community members regarding customer satisfaction or dissatisfaction with the SFCP. Affected Public: Individuals. Type of Respondents: Tribal homeowners, Tribal leaders, and Tribal operation and maintenance operators.

The table below provides: Types of data collection instruments, Estimated number of respondents, Number of responses per respondent, Annual number of responses, Average burden hours per response, and Total annual burden hour(s).

Data collection instrument(s) | Number of respondents | Responses per respondent | Total annual response | Burden hours per response* | Annual burden hours
Tribal Homeowner Survey | 1,300 | 1 | 1,300 | 3 | 65
Tribal Partner Survey | 175 | 1 | 175 | 3 | 8.75
Annual Operator O&M Survey | 125 | 1 | 125 | 3 | 6.25
Post Construction O&M Survey | 200 | 1 | 200 | 3 | 10
Total | 1,800 |  |  |  | 90

There are no Capital Costs, Operating Costs, and/or Maintenance Costs to report.

Request for Comments: Your written comments and/or suggestions are invited on one or more of the following points: (a) Whether the information collection activity is necessary to carry out an agency function; (b) whether the agency processes the information collected in a useful and timely fashion; (c) the accuracy of the public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests for Further Information: Send your written comments, requests for more information on the proposed collection, or requests to obtain a copy of the data collection instrument(s) and instructions to: Ms. Betty Gould, Reports Clearance Officer, 801 Thompson Ave., TMP, Suite 450, Rockville, MD 20852-1601; call (301) 443-7899; send via facsimile to (301) 443-2316; or send your e-mail requests, comments, and return address to: Betty.Gould@ihs.gov.

Comment Due Date: Your comments regarding this information collection are best assured of having full effect if received within 60 days of the date of this publication.

Dated: August 28, 2009.
Yvette Roubideaux,
Director, Indian Health Service.

[FR Doc. E9-21419 Filed 9-4-09; 8:45 am]

BILLING CODE 4165-16-M